ENVIRONMENTAL PROTECTION AGENCY

[EPA-HQ-OPPT-2003-0004; FRL-9975-02]

Access to Confidential Business Information by Accelera Solutions, Inc

AGENCY: Environmental Protection Agency (EPA).

ACTION: Notice.

SUMMARY: EPA has authorized its contractor, Accelera Solutions, Inc. of Fairfax, VA, to access information which has been submitted to EPA under all sections of the Toxic Substances Control Act (TSCA). Some of the information may be claimed or determined to be Confidential Business Information (CBI).

DATES: Access to the confidential data occurred on or about February 22, 2018.

FOR FURTHER INFORMATION CONTACT:

For technical information contact: Scott Sherlock, Environmental Assistance Division (7408M), Office of Pollution Prevention and Toxics, Environmental Protection Agency, 1200 Pennsylvania Ave. NW, Washington, DC 20460-0001; telephone number: (202) 564-8257; email address: sherlock.scott@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. This action may, however, be of interest to all who manufacture, process, or distribute industrial chemicals. Since other entities may also be interested, the Agency has not attempted to describe all the specific entities that may be affected by this action.

B. How can I get copies of this document and other related information?

The docket for this action, identified by docket identification (ID) number EPA-HQ-OPPT-2003-0004, is available at http://www.regulations.gov or at the Office of Pollution Prevention and Toxics Docket (OPPT Docket), Environmental Protection Agency Docket Center (EPA/DC), West William Jefferson Clinton Bldg., Rm. 3334, 1301 Constitution Ave. NW, Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

II. What action is the Agency taking?

Under EPA contract number (GS-35F-0391P, order number EP-G18H-01472), contractor Accelera of 12150 Monument Drive, Suite 800, Fairfax, VA, is assisting the Office of Pollution Prevention and Toxics (OPPT) in the operations, maintenance and infrastructure support for the Confidential Business Information Local Area Network (CBI LAN). This includes the existing hardware, associated operating systems, security artifacts and COTS products, currently in use on the OPPT CBI LAN and ADMIN LAN. In addition, the contractor is providing assistance on the virtual desktop solution, which will streamline the process of bilateral use of CBI and business processes, to support headquarters and region offices. Furthermore, they are assisting in establishing expertise in secure virtual environments.

In accordance with 40 CFR 2.306(j), EPA has determined that under EPA contract number (GS-35F-0391P, order number EP-G18H-01472), Accelera required access to CBI submitted to EPA under all sections of TSCA to perform successfully the duties specified under the contract. Accelera personnel were given access to information submitted to EPA under all sections of TSCA. Some of the information may be claimed or determined to be CBI.

EPA is issuing this notice to inform all submitters of information under all sections of TSCA that EPA has provided Accelera access to these CBI materials on a need-to-know basis only. All access to TSCA CBI under this contract is taking place at EPA Headquarters in accordance with EPA's TSCA CBI Protection Manual.

Access to TSCA data, including CBI, will continue until February 13, 2022. If the contract is extended, this access will also continue for the duration of the extended contract without further notice.

Accelera personnel have signed nondisclosure agreements and were briefed on appropriate security procedures before they were permitted access to TSCA CBI.

Authority: 15 U.S.C. 2601 et seq.

Dated: February 28, 2018.
Pamela S. Myrick,
Director, Information Management Division, Office of Pollution Prevention and Toxics.

[FR Doc. 2018-05290 Filed 3-14-18; 8:45 am]

BILLING CODE 6560-50-P